DEPARTMENT OF TRANSPORTATION

Surface Transportation Board

[Docket No. FD 35278 (Sub-No. 1)]

Chicago, Central & Pacific Railroad Company—Amended Trackage Rights Exemption—Grand Trunk Western Railroad Company

Grand Trunk Western Railroad Company (GTW) has agreed to amend the existing nonexclusive trackage rights previously granted to Chicago, Central & Pacific Railroad Company (CCP). The existing trackage rights extend over approximately 29.2 miles of GTW's Elsdon Subdivision between the east side of the interlocking plant with GTW's connection with the Elgin, Joliet & Eastern Railway Company (EJ&E) at or near milepost 36.1, at Griffith, Ind., and GTW's Railport Yard at or near milepost 6.9 in Chicago, Ill.¹ CCP states that, pursuant to an amended trackage rights agreement dated May 24, 2013, GTW has agreed to extend the existing nonexclusive trackage rights approximately 7.2 miles over GTW's South Bend Subdivision between GTW's connection with WCL (formerly EJ&E) at or near milepost 36.1 in Griffith and milepost 43.3 in Spring Lake, Ind.

¹ See Chi., Cent. & Pac. R.R.—Trackage Rights Exemption—Grand Trunk W. R.R., FD 35278 (STB served Aug. 17, 2009). EJ&E subsequently was merged into Wisconsin Central Ltd. (WCL). Wis. Cent. Ltd.—Intra-Corporate Family Merger Exemption—Elgin, Joliet & E. Ry., FD 35630 (STB served June 8, 2012).

The purpose of the trackage rights is to enable CCP to perform rail movements east of the GTW-WCL connection beyond Griffith to the nearest location where a typical train can be held without blocking local grade crossings.

The transaction is scheduled to be consummated on July 17, 2013, the effective date of the exemption (30 days after the exemption is filed).

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by July 10, 2013 (at least 7 days before the exemption becomes effective).

An original and 10 copies of all pleadings, referring to Docket No. FD 35278 (Sub-No. 1), must be filed with the Surface Transportation Board, 395 E Street SW., Washington, DC 20423-0001. In addition, a copy of each pleading must be served on Thomas J. Litwiler, 29 North Wacker Drive, Suite 920, Chicago, IL 60606.

Board decisions and notices are available on our Web site at www.stb.dot.gov.

Decided: June 28, 2013.
By the Board.
Rachel D. Campbell,
Director, Office of Proceedings.

[FR Doc. 2013-16167 Filed 7-2-13; 8:45 am]

BILLING CODE 4915-01-P